DEPARTMENT OF ENERGY

Federal Energy Regulatory Commission

[Docket No. RM01-5-000]

Electronic Tariff Filings; Notice of Final Codes for Deployment

Take notice that the final set of codes and tables for the November 25, 2024, deployment are posted at the same eLibrary Accession Number as this Notice. The following are the changes to filing-type codes since the September 30, 2024, Notice.

Code 1090—Non-Jurisdictional filing Amendment—Changed to compliance type.

The following new ALJ Settlement Codes have been added to accommodate settlement filings, such as settlements of complaints, for which the filer does not have an existing docket number with an associated filing identifier.

Code 1385—ALJ Settlement—new docket

Code 1395—ALJ Settlement—new docket

Code 1405—ALJ Settlement—new docket

Code 1415—ALJ Settlement—new docket

Code 1425—ALJ Settlement—new docket

These revisions will not be available in the test sandbox at https://etariff.ferc.gov/TariffSandbox2.aspx.

Questions on these changes should be directed to: Michael Goldenberg at Michael.Goldenberg@ferc.gov or James Sarikas at James.Sarikas@ferc.gov.

Dated: October 31, 2024.
Carlos D. Clay,
Acting Deputy Secretary.

[FR Doc. 2024-25850 Filed 11-6-24; 8:45 am]

BILLING CODE 6717-01-P